COMMISSION ON CIVIL RIGHTS

Sunshine Act Notice

AGENCY: United States Commission on Civil Rights.

ACTION: Notice of meeting.

Date and Time: Wednesday, February 11, 2009; 11 a.m. e.s.t.

Place: Via Teleconference, Public Dial In—1-800-597-7623, Conference ID# 83711892.

Meeting Agenda

I. Approval of Agenda

II. Program Planning

• FY 2009 Statutory Report

III. Future Agenda Items

IV. Adjourn

FOR FURTHER INFORMATION CONTACT: Lenore Ostrowsky, Acting Chief, Public Affairs Unit (202) 376-8582.

Dated: January 30, 2009.
David Blackwood,
General Counsel.

[FR Doc. E9-2327 Filed 1-30-09; 4:15 pm]

BILLING CODE 6335-01-P